DEPARTMENT OF COMMERCE

Foreign-Trade Zones Board

[Docket B-24-2013]

Foreign-Trade Zone (FTZ) 169—Manatee County, Florida; Application for Expanded Production Authority ASO, LLC (Subzone 169A); Adhesive Bandage Production; Comment Period on New Evidence

The FTZ Board is inviting public comment on new evidence submitted by ASO, LLC (ASO) on May 14, 2014. Currently pending before the Board is an application requesting expanded FTZ authority for ASO to use certain textile fabrics in the production of adhesive bandages within Subzone 169A. ASO's May 14, 2014, submission—which rebutted comments that other parties had submitted to the Board in response to evidence previously presented by ASO—contained new evidence on which there has not been a chance for public comment. The comment period is open through July 9, 2014 to allow parties to comment on ASO's May 14, 2014, submission.

Submissions shall be addressed to the FTZ Board's Executive Secretary at: Foreign-Trade Zones Board, U.S. Department of Commerce, Room 21013, 1401 Constitution Ave. NW., Washington, DC 20230.

A copy of ASO's May 14, 2014, submission will be available for public inspection at the address above, and in the “Reading Room” section of the Board's Web site, which is accessible via www.trade.gov/ftz. For further information, contact Diane Finver at Diane.Finver@trade.gov or (202) 482-1367.

Dated: June 3, 2014.
Executive Secretary.

[FR Doc. 2014-13437 Filed 6-6-14; 8:45 am]

BILLING CODE 3510-DS-P